INTERNATIONAL TRADE COMMISSION

[Investigation Nos. 701-TA-379 and 731-TA-788, 792, and 793 (Third Review)]

Stainless Steel Plate From Belgium, South Africa, and Taiwan; Determinations

On the basis of the record ¹ developed in the subject five-year reviews, the United States International Trade Commission (“Commission”) determines, pursuant to the Tariff Act of 1930 (“the Act”), that revocation of the antidumping duty orders on stainless steel plate from Belgium, South Africa, and Taiwan and revocation of the countervailing duty order on stainless steel plate from South Africa would be likely to lead to continuation or recurrence of material injury to an industry in the United States within a reasonably foreseeable time.

¹ The record is defined in sec. 207.2(f) of the Commission's Rules of Practice and Procedure (19 CFR 207.2(f)).

Background

The Commission, pursuant to section 751(c) of the Act (19 U.S.C. 1675(c)), instituted these reviews on July 1, 2016 (81 FR 43245) and determined on October 4, 2016 that it would conduct expedited reviews (81 FR 73421, October 25, 2016).

The Commission made these determinations pursuant to section 751(c) of the Act (19 U.S.C. 1675(c)). It completed and filed its determinations in these reviews on December 22, 2016. The views of the Commission are contained in USITC Publication 4658 (December 2016), entitled Stainless Steel Plate from Belgium, South Africa, and Taiwan: Investigation Nos. 701-TA-379 and 731-TA-788, 792, and 793 (Third Review).

By order of the Commission.
Issued: December 28, 2016.
Katherine M. Hiner,
Acting Supervisory Attorney.

[FR Doc. 2016-31837 Filed 12-30-16; 8:45 am]

BILLING CODE 7020-02-P